FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than March 30, 2023.

A. Federal Reserve Bank of Kansas City (Jeffrey Imgarten, Assistant Vice President); 1 Memorial Drive, Kansas City, Missouri 64198:

1. Caroline Berry; the Brooklyn Bass Berry 2019 Irrevocable Trust; the Hannah D. Berry 2019 Irrevocable Trust; the Kaylee Doiron Berry 2019 Irrevocable Trust; William L. Berry Jr. and Stacey Berry, as co-trustees of the three preceding trusts; the James Arthur Dilley, Jr. 2019 Irrevocable Trust; the Jarret Blake Dilley 2019 Irrevocable Trust; and Jennifer Berry Dilley and James A. Dilley, as co-trustees of the two preceding trusts, all of Sapulpa, Oklahoma; to join the Berry Family Group, a group acting in concert, to retain voting shares of American Bancorporation, Inc., and thereby indirectly retain voting shares of American Heritage Bank, both of Sapulpa, Oklahoma.

In addition, The Caroline Celen Berry Revocable Trust, Caroline Berry, as trustee, and The Elizabeth Berry Thompson Revocable Trust, Elizabeth Thompson, as trustee, all of Sapulpa, Oklahoma; to join the Berry Family Group, a group acting in concert, to acquire additional voting shares of American Bancorporation, Inc., and thereby indirectly acquire additional voting shares of American Heritage Bank.

Board of Governors of the Federal Reserve System.
Margaret McCloskey Shanks,
Deputy Secretary of the Board.

[FR Doc. 2023-05309 Filed 3-14-23; 8:45 am]

BILLING CODE P